DEPARTMENT OF COMMERCE

International Trade Administration

[C-357-826]

White Grape Juice Concentrate From Argentina: Suspension of Countervailing Duty Investigation

AGENCY: Enforcement and Compliance, International Trade Administration, Department of Commerce.

SUMMARY: The U.S. Department of Commerce (Commerce) has suspended the countervailing duty investigation on white grape juice concentrate (WGJC) from Argentina. The basis for this action is an agreement between Commerce and the Government of Argentina (GOA), wherein the GOA has agreed not to provide any new or additional export or import substitution subsidies on the subject merchandise and has agreed to restrict the volume of direct or indirect exports to the United States of WGJC from all Argentine producers/exporters in order to eliminate completely the injurious effects of exports of this merchandise to the United States.

DATES: Applicable March 17, 2023.

FOR FURTHER INFORMATION CONTACT: Sally C. Gannon or David Cordell, Bilateral Agreements Unit, Enforcement and Compliance, International Trade Administration, U.S. Department of Commerce, 1401 Constitution Avenue NW, Washington, DC 20230; telephone: (202) 482-0162 or (202) 482-0408, respectively.

SUPPLEMENTARY INFORMATION:

Background

On April 20, 2022, Commerce initiated a countervailing duty investigation under section 702 of the Tariff Act of 1930, as amended (the Act), to determine whether imports of WGJC from Argentina benefit from countervailable subsidies conferred by the GOA.¹ On May 16, 2022, the U.S. International Trade Commission (ITC) notified Commerce of its affirmative preliminary injury determination. On September 6, 2022, Commerce preliminarily determined that that countervailable subsidies are being provided to producers and exporters of WGJC from Argentina.² On September 23, 2022, Commerce aligned the final countervailing duty determination with the final antidumping duty determination.³

¹ See White Grape Juice Concentrate from the Republic of Argentina: Initiation of Countervailing Duty Investigation, 87 FR 24945 (April 27, 2022).

² See White Grape Juice Concentrate from Argentina: Preliminary Affirmative Countervailing Duty Determination, 87 FR 54455 (September 6, 2022) (Preliminary Determination).

³ See White Grape Juice Concentrate from Argentina: Preliminary Affirmative Countervailing Duty Determination and Alignment of Final Determination with the Final Antidumping Duty Determination; Correction, 87 FR 58061 (September 23, 2022).

On December 21, 2022, Commerce issued a letter that formally opened consultations with the GOA with respect to a possible countervailing duty suspension agreement under section 704(c) of the Act.⁴ Since that time, Commerce has continued to negotiate with the GOA and, in parallel, has continually consulted with the petitioner, Delano Growers Grape Products.

⁴ See Commerce's Letter, “Consultations on Potential Agreement Suspending the Countervailing Duty (CVD) Investigation on White Grape Juice Concentrate from Argentina,” dated December 21, 2022.

On February 13, 2023, Commerce and the GOA initialed a proposed agreement to suspend the countervailing duty investigation on WGJC from Argentina. Consistent with section 704(e) of the Act, Commerce notified the petitioner and the other parties, released the initialed draft agreement to the interested parties, and invited interested parties to provide written comments on the draft suspension agreement by no later than the close of business on March 13, 2023.⁵ Consistent with 704(e)(1) of the Act, Commerce consulted with the petitioner concerning its intention to suspend the countervailing duty investigation on WGJC from Argentina. Commerce also notified the ITC of the proposed agreement,⁶ consistent with 704(e)(1) of the Act, and released a draft memorandum explaining how the agreement will be implemented and enforced, and how the agreement will meet the applicable statutory requirements, consistent with section 704(e)(2) of the Act.⁷ Commerce received comments from the petitioner and the mandatory respondents, Cepas Argentinas S.A. (Cepas) and Federación de Cooperativas Vitivinicolas Argentinas Coop. Ltda (Fecovita), by the March 13, 2023, deadline.⁸ The GOA did not submit comments on the initialed draft agreement.

⁵ See Commerce's Letter, “Draft Agreement Suspending the Countervailing Duty Investigation on White Grape Juice Concentrate from Argentina,” dated February 13, 2023.

⁶ See Commerce's Letter, “Initialed Draft Suspension Agreements,” dated February 14, 2023.

⁷ See Commerce's Letter, “Draft Agreement Suspending the Countervailing Duty Investigation on White Grape Juice Concentrate from Argentina: Assessment of Statutory Requirements Memorandum,” dated February 14, 2023.

⁸ See Petitioner's Letter, “Comments in support of the Suspension Agreements in the Anti-dumping and Countervailing duty of White Grape Juice Concentrate (WGJC) from Argentina,” dated March 13, 2023; see also Cepas and Fecovita's Letter, “Comments on Draft Suspension Agreements on Behalf of Exporters of White Grape Juice Concentrate from Argentina,” dated March 13, 2023.

On March 17, 2023, Commerce and the GOA signed the Agreement Suspending the Countervailing Duty Investigation on White Grape Juice Concentrate from Argentina (CVD Agreement), attached hereto.

Scope of Agreement

See Section I, Product Coverage, of the CVD Agreement.

Suspension of Investigation

Commerce consulted with the GOA and the petitioner and has considered the comments submitted by interested parties with respect to the draft suspension agreement. In accordance with section 704(c) of the Act, we have determined that extraordinary circumstances are present in this case, as defined by section 704(c)(4) of the Act. The CVD Agreement provides that: (1) the GOA will not provide any new or additional export or import substitution subsidies on the subject merchandise; and (2) the GOA will restrict the volume of direct or indirect exports to the United States of subject merchandise from all Argentine producers/exporters. We have also determined that the CVD Agreement is in the public interest and can be monitored effectively, as required under section 704(d) of the Act.

For the reasons outlined above, we find that the CVD Agreement meets the criteria of section 704(c) and (d) of the Act.

The CVD Agreement, signed March 17, 2023, is attached to this notice.

International Trade Commission

In accordance with section 704(f) of the Act, Commerce has notified the ITC of the CVD Agreement.

Suspension of Liquidation

The suspension of liquidation ordered in the Preliminary Determination shall continue to be in effect, subject to section 704(h)(3) of the Act.⁹ Section 704(f)(2)(B) of the Act provides that Commerce may adjust the security required to reflect the effect of the CVD Agreement. Commerce has found that the CVD Agreement eliminates completely the injurious effects of imports and, thus, Commerce is adjusting the security required to zero. If there is no request for review of suspension under section 704(h) of the Act, or if the ITC conducts a review and finds that the injurious effect of imports of the subject merchandise is eliminated completely by the CVD Agreement, Commerce will terminate the suspension of liquidation of all entries of WGJC from Argentina and refund any cash deposits collected on entries of WGJC from Argentina consistent with section 704(h)(3) of the Act.

⁹ See Preliminary Determination, 87 FR at 54456.

Notwithstanding the CVD Agreement, Commerce will continue the investigation if it receives such a request within 20 days after the date of publication of this notice in the Federal Register, in accordance with section 704(g) of the Act. Pursuant to Section III of the CVD Agreement, if the GOA requests continuation of the countervailing duty investigation, Commerce retains the right to modify or terminate this CVD Agreement. Commerce may also modify or terminate the CVD Agreement if Argentine producers/exporters accounting for a significant proportion of exports of WGJC from Argentina request continuation of the antidumping duty investigation on WGJC from Argentina.

Administrative Protective Order Access

The Administrative Protective Order (APO) Commerce granted in the investigation segment of this proceeding remains in place. While the investigation is suspended, parties subject to the APO may retain, but may not use, information received under that APO. All parties wishing access to business proprietary information submitted during the administration of the CVD Agreement must submit new APO applications in accordance with Commerce's regulations currently in effect.¹⁰ An APO for the administration of the CVD Agreement will be placed on the record within five days of the date of publication of this notice in the Federal Register.

¹⁰ See section 777(c)(1) of the Act; see also 19 CFR 351.103, 351.304, 351.305, and 351.306.

We are issuing and publishing this notice in accordance with section 704(f)(1)(A) of the Act and 19 CFR 351.208(g)(2).

Dated: March 17, 2023.
Lisa W. Wang,
Assistant Secretary for Enforcement and Compliance.

Agreement Suspending the Countervailing Duty Investigation on White Grape Juice Concentrate From Argentina

Pursuant to the requirements of section 704(c) of the Tariff Act of 1930, as amended (the Act) and 19 CFR 351.208, and in satisfaction of the requirements of those provisions, the U.S. Department of Commerce (Commerce) and the Government of Argentina (GOA) enter into this agreement suspending the countervailing duty investigation on White Grape Juice Concentrate (WGJC) from Argentina (CVD Agreement).

I. Product Coverage

The merchandise covered by this CVD Agreement is WGJC with a Brix level of 65 to 68, whether in frozen or non-frozen forms. WGJC is concentrated grape juice produced from grapes of the Vitis vinifera L. species with a white flesh, including fresh market table grapes and raisin grapes (e.g., Thompson Seedless), as well as several varietals of wine grapes (e.g., Chardonnay, Chenin Blanc, Sauvignon Blanc, Colombard, etc.). The scope of this CVD Agreement covers WGJC regardless of whether it has been certified as kosher, organic, or organic kosher. The WGJC subject to this CVD Agreement consists of 100 percent grape juice with no other types of juice intermixed and no additional sugars or additives included. The scope does not cover WGJC produced from grapes of the Vitis labrusca species (e.g., Niagara). The products covered by this CVD Agreement are currently classified under the following Harmonized Tariff Schedule of the United States (HTSUS) subheadings: 2009.69.0040 and 2009.69.0060. The HTSUS subheadings and specifications are provided for convenience and customs purposes; the written description of the scope is dispositive.

II. Definitions

For purposes of the CVD Agreement, the following definitions apply:

A. “Anniversary Month” means the month in which the CVD Agreement becomes effective.

B. “Argentina” means the customs territory of Argentina and foreign trade zones located within the territory of Argentina.

C. “Consignment Sales” means arrangements in which a seller (“consignor”) exports goods to an entity (“consignee”) in the United States, which takes custody and holds the goods without taking title to the goods. The consignee then either purchases the goods or sells the goods to a third party. The sale is considered to occur at the time at which the purchase (either by the consignee or the third party) occurs. The goods are not sold to the consignee or to the third-party buyer until after importation into the United States.

D. “Date of Export” means the date on which the product is exported from Argentina to the United States.

E. “Effective Date” means the date on which Commerce and the GOA sign the CVD Agreement.

F. “Export License” means the document issued by the GOA's export license issuing authority, pursuant to Section VI of the CVD Agreement.

G. “Export Limit” means the quantity of WGJC from Argentina permitted to be exported, based on the Date of Export, during a given Export Limit Period.

H. “Export Limit Period” means one of the following periods:

1. “Initial Export Limit Period” covers entries of WGJC entered, or withdrawn from warehouse for consumption, between the Effective Date and March 31, 2024.

2. “Annual Export Limit Period” covers entries of WGJC entered, or withdrawn from warehouse for consumption, in each subsequent April 1-March 31 period.

I. “Interested Party” means any person or entity that meets the definitions in section 771(9) of the Act.

J. “Indirect Exports” means exports of WGJC to the United States through one or more Third Countries, whether or not such exports are further processed, provided that the further processing does not result in a substantial transformation or a change in the country of origin, as determined by Commerce.

K. “Third Country” or “Third Countries” mean any country other than the United States or Argentina, including any customs territory or free trade zone administered, governed, or controlled by such country.

L. “United States” means the customs territory of the United States of America (the 50 States, the District of Columbia, and Puerto Rico) and foreign trade zones located within the territory of the United States.

M. “Violation” means noncompliance with the terms of the CVD Agreement, whether through an act or omission, except for noncompliance that is inconsequential or inadvertent and does not materially frustrate the purposes of the CVD Agreement.

N. “White Grape Juice Concentrate,” or “WGJC,” means the product described under Section I, “Product Coverage,” of the CVD Agreement.

Any term or phrase not defined by this section shall be defined using either a definition provided in the Act for that term or phrase, or the plain meaning of that term, as appropriate.

III. Suspension of Investigation

As of the Effective Date, in accordance with sections 704(c)(1) and (3) of the Act and 19 CFR 351.208, Commerce will suspend its countervailing duty investigation on WGJC from Argentina initiated on April 20, 2022, subject to the terms and provisions set out below.¹¹

¹¹ See White Grape Juice Concentrate from the Republic of Argentina: Initiation of Countervailing Duty Investigation, 87 FR 24945 (April 27, 2022).

The GOA and the Argentine producers/exporters of WGJC from Argentina have indicated they will not exercise the right to request continuation of the countervailing duty or antidumping duty investigations, respectively, on WGJC from Argentina. If the GOA requests continuation of the countervailing duty investigation, Commerce retains the right to modify or terminate this CVD Agreement. Commerce may also modify or terminate the CVD Agreement if Argentine producers/exporters accounting for a significant proportion of exports of WGJC from Argentina request continuation of the antidumping duty investigation on WGJC from Argentina.

IV. Statutory Conditions for the CVD Agreement

In accordance with sections 704(c)(1) and (4) of the Act, Commerce has determined that extraordinary circumstances are present in this investigation because the suspension of the investigation will be more beneficial to the domestic industry than the continuation of the investigation and the investigation is complex.

In accordance with section 704(d)(1) of the Act, Commerce has determined that the suspension of the investigation is in the public interest and that effective monitoring of the CVD Agreement by the United States is practicable. Section 704(a)(2)(B) of the Act provides that the public interest includes the relative impact on consumer prices and the availability of supplies of the merchandise, the relative impact on the international economic interests of the United States, and the relative impact on the competitiveness of the domestic industry producing the like merchandise, including any such impact on employment and investment in that industry. Accordingly, if a domestic producer requests an administrative review of the status of, and compliance with, the CVD Agreement, Commerce will take these factors into account in conducting that review. If Commerce finds that the CVD Agreement is not working as intended in this regard, Commerce will explore all appropriate measures, including renegotiation of the terms of the CVD Agreement to resolve the problem or measures under section 751(d)(1) of the Act.

V. Export Limit

No WGJC from Argentina covered by the CVD Agreement, whether exported directly or indirectly from Argentina, shall be exported for entry into the United States unless, when cumulated with all prior entries of WGJC exported directly or indirectly from Argentina during the Export Limit Period in which the WGJC was exported, it does not exceed the applicable Export Limit set forth below. All exports of WGJC from Argentina that enter the United States will be counted against the Export Limit established for the applicable Export Limit Period. The GOA will ensure that no WGJC is exported directly from Argentina to the United States without an Export License and, to the best of its ability, will ensure that Argentine producers/exporters do not make indirect exports of WGJC to the United States through intermediary parties or Third Countries without an Export License.

A. The GOA shall ensure that no WGJC is exported from Argentina to the United States in a quantity that exceeds the Export Limits set forth below:

1. The Export Limit for the Initial Export Limit Period shall be 8,328,767 gallons.

2. The Export Limit for each subsequent Annual Export Limit Period shall be the Export Limit identified in Appendix I.

3. If, at any time, Commerce determines that the available supply of WGJC from Argentina is or will be insufficient to meet U.S. demand, Commerce may increase the Export Limit in this CVD Agreement from 8.0 million gallons up to any amount not exceeding 8.4 million gallons. In such a case, the consultations referred to in Section V.B below will not be mandatory.

B. Commerce and the GOA shall consult, as necessary, regarding whether the Export Limit should be modified to respond to changes in U.S. demand or changes in U.S. supply or global supply, except for the case provided for in Section V.A.3 above.

C. If any WGJC from Argentina is entered into the United States in excess of the Export Limit for the relevant Export Limit Period, Section IX “Violations of the CVD Agreement” applies.

VI. Implementation

A. Within 60 days of the Effective Date, the GOA shall establish an Export Limit licensing and enforcement program for all direct and indirect exports of WGJC from Argentina to the United States. After that date, the GOA will ensure that no WGJC is exported from Argentina to the United States without an Export License.

B. On or after 60 days from the Effective Date, presentation of a shipment-specific Export License is required as a condition for entry of WGJC from Argentina into the United States. Pursuant to 19 CFR 351.208(i), Commerce will instruct U.S. Customs and Border Protection (CBP) to prohibit the entry of any WGJC from Argentina not accompanied by an Export License.

C. Export Licenses must contain the information identified in Appendix II. Within 30 days of the Effective Date, the GOA will provide Commerce with a template or model of the Export License to be implemented. Additional information may be included on the Export License or, if necessary, a separate page attached to the Export License. If the bills of lading for all of the shipments under an Export License establish that the actual imports into the United States under that license were less than the total volume listed on the license, the GOA shall notify Commerce in writing that the GOA intends to issue a new Export License in the same Export Limit Period authorizing additional exports equal in volume to the volume of the under-shipment(s).

D. Export Licenses will be issued sequentially, charged against the Export Limit for the relevant Export Limit Period, and reference any notice of the Export Limit allocation for the relevant Export Limit Period. Export Licenses shall remain valid for entry into the United States for 90 days. Commerce and the GOA may agree to an extension of the validity of the Export License in extraordinary circumstances.

E. The GOA will ensure compliance with all of the provisions of the CVD Agreement. To ensure such compliance, the GOA will take the following measures:

1. Ensure that no WGJC from Argentina is exported for entry into the United States during any Export Limit Period that exceeds the Export Limit for that Export Limit Period, including during the 60-day period referenced in Section VI.A in which the GOA is establishing its Export Limit licensing and enforcement program.

2. Require that applications for Export Licenses contain all of the information listed in Appendix II of the CVD Agreement.

3. As a condition of granting an Export License, the GOA shall require applicants for an Export License to:

a. Permit full verification of all information related to the administration of the CVD Agreement on an annual basis, or more frequently, as deemed necessary.

b. Certify that the applicant agrees not to export WGJC directly or indirectly to the United States that is not accompanied by an Export License issued pursuant to the CVD Agreement, consistent with Section VII.A.1 below.

c. Certify that the applicant has required its customers to agree not to ship WGJC to the United States without an Export License from the GOA, consistent with Section VII.A.2 below.

d. Certify that the applicant has required its importers to submit to CBP, with the entry summary package, a valid Export License issued by the GOA.

e. Certify that the applicant agrees not to sell WGJC from Argentina in the United States by means of Consignment Sales, as defined in Section II.C.

f. Agree to provide the information required in Section VIII below.

4. Refuse to issue an Export License to any applicant that does not permit full verification and reporting under the CVD Agreement of all of the information in the application.

5. Ensure compliance, as necessary, with all procedures established to effectuate the CVD Agreement by any official Argentine institution, chamber, or other authorized Argentine company, and any Argentine producer, exporter, broker, and trader of WGJC.

6. Impose strict measures, such as prohibition from participation in the Export Limit allocation allowed by the CVD Agreement, in the event that any Argentine company does not comply in full with the requirements established by the GOA pursuant to the CVD Agreement.

F. If any WGJC from Argentina is entered into the United States without a valid Export License, Section IX “Violations of the CVD Agreement” applies.

G. The GOA and Commerce shall hold consultations regarding the GOA's compliance with the provisions of this section, consistent with Section VIII.D.1 of the CVD Agreement.

VII. Anti-Circumvention

A. The GOA shall take all necessary measures to prevent circumvention of the CVD Agreement, including the following:

1. Require that as a condition of receiving an Export License under the CVD Agreement, any applicant for an Export License agrees not to export directly or indirectly to the United States WGJC that is not accompanied by an Export License issued pursuant to the CVD Agreement.

2. Require that as a condition of receiving an Export License under the CVD Agreement, any applicant for an Export License provide the GOA with a certification that it has required all of its customers to agree, as part of the terms of sale, not to export WGJC of Argentine origin to the United States, directly or indirectly, without an Export License.

3. Require that as a condition of receiving an Export License under the CVD Agreement, any applicant certify that it will not engage in any circumvention activities specified by the CVD Agreement. A circumvention activity may include, but is not limited to, exporting WGJC from Argentina, directly or indirectly, to the United States: (1) in excess of the Export Limit in any given Export Limit Period; (2) without an Export License; (3) in any bundling arrangement, swap or other exchange where such arrangement is designed to circumvent the basis of the CVD Agreement; or (4) with a Brix level from over 68 up to and including 70.

B. If the GOA receives an allegation that circumvention has occurred, including an allegation from Commerce, the GOA shall promptly initiate an inquiry, normally complete the inquiry within 45 days, and notify Commerce of the results of the inquiry within 15 days after the conclusion of the inquiry.

C. If the GOA determines that an Argentine company has participated in a transaction circumventing the CVD Agreement, the GOA shall impose penalties upon such company including, but not limited to, denial of access to an Export License for WGJC under the CVD Agreement.

D. If the GOA determines that an Argentine company has participated in the circumvention of the CVD Agreement, the GOA shall count against the Export Limit for the Export Limit Period in which the circumvention took place an amount of WGJC equivalent to the volume involved in such circumvention and shall immediately notify Commerce of the volume deducted. If a sufficient amount is not available in the current Export Limit Period, then the remaining amount shall be deducted from the subsequent Export Limit Period or Periods.

E. Commerce will investigate any allegations of circumvention which are brought to its attention both by asking the GOA to investigate such allegations and by itself gathering relevant information. The GOA will respond to requests from Commerce for information relating to such allegations. In distinguishing normal arrangements from those which would result in the circumvention of a given Export Limit established by the CVD Agreement, Commerce will take the following factors into account, as deemed appropriate:

1. Existence of any verbal or written agreement leading to circumvention of the CVD Agreement;

2. Existence and function of any subsidiaries or affiliates of the parties involved;

3. Existence and function of any historical and traditional patterns of production and trade among the parties involved, and any deviation from such patterns;

4. Existence of any payments unaccounted for by previous or subsequent deliveries, or any payments to one party for WGJC delivered or swapped by another party;

5. Sequence and timing of the arrangements; and

6. Any other information relevant to the transaction or circumstances.

F. The GOA and Commerce shall hold consultations regarding anti-circumvention as provided in Section VIII.D.3 of the CVD Agreement.

VIII. Monitoring of the CVD Agreement

A. Import Monitoring

1. Commerce will monitor entries of WGJC from Argentina to ensure compliance with Section V of the CVD Agreement.

2. Commerce will review publicly available data and other official import data, including, as appropriate, records maintained by CBP, to determine whether there have been imports that are inconsistent with the provisions of the CVD Agreement.

3. Commerce will review, as appropriate, data it receives through any data exchange program between U.S. and Argentine government agencies, to determine whether there have been imports that are inconsistent with the provisions of the CVD Agreement.

B. Compliance Monitoring

1. Within 60 days of the Effective Date, the GOA shall notify Commerce of its allocation for the Initial Export Limit Period and the first Annual Export Limit Period, including the allocation recipient(s) and the volume granted to the recipient(s). For any subsequent Annual Export Limit Period, the GOA shall inform Commerce of any changes in the volume allocated to an individual recipient within 30 days of the date on which such changes become effective.

2. The GOA shall collect from its Export Limit licensing and enforcement program and report to Commerce all direct and, to the best of its ability, indirect exports of WGJC from Argentina to the United States. During the 60-day period referenced in Section VI.A in which the GOA is establishing its Export Limit Licensing and enforcement program, the GOA shall collect from alternate sources, such as its official export statistics, all direct and, to the best of its ability, indirect exports of WGJC from Argentina to the United States. Reports shall be provided on a monthly basis in the format specified in Appendix III, except for the provisional reports provided during the 60-day period referenced in Section VI.A,¹² and will be provided no later than 60 days following the end of each month, beginning on June 29, 2023 (for the period from the Effective Date through April 30, 2023). If requested, the GOA shall collect and provide to Commerce information on the aggregate quantity and value of exports of WGJC to the United States and/or Third Countries for a designated period. The information shall be entitled to proprietary treatment under Commerce's rules for handling business proprietary information.

¹² In general, the provisional reports provided by the GOA during this period will contain a listing of exports of WGJC from Argentina, with the associated quantities, during the relevant reporting period.

3. Commerce has the authority to verify at any time all information related to the administration of the CVD Agreement, including all information relating to potential circumvention of the CVD Agreement. Commerce will conduct verifications at locations and times it deems appropriate to ensure compliance with the terms of the CVD Agreement. If Commerce proposes to conduct on-site review or inspection, it will normally provide 30 days' notice.

4. The GOA and Commerce recognize that the effective monitoring of the CVD Agreement may require the GOA to provide information in addition to that identified in the CVD Agreement. Accordingly, after consulting with the GOA, Commerce may request additional reporting requirements consistent with U.S. law and regulations during the course of the CVD Agreement. The GOA shall also collect and provide to Commerce, generally within 60 days of the request, any such additional information requested by Commerce.

5. Commerce may initiate administrative reviews under section 751(a) of the Act in the month immediately following the Anniversary Month, upon request, or upon its own initiative, to ensure that exports of WGJC from Argentina satisfy the requirements of sections 704(c)(1) and (3) of the Act. Commerce may conduct administrative reviews under sections 751(b) and (c), and 781 of the Act, as appropriate. Commerce may perform verifications pursuant to administrative reviews conducted under section 751 of the Act.

C. Rejection of Submissions

Commerce may reject: (1) any information submitted after the deadlines set forth in the CVD Agreement; (2) any submission that does not comply with the filing, format, translation, service, and certification of documents requirements under 19 CFR 351.303; (3) submissions that do not comply with the procedures for establishing business proprietary treatment under 19 CFR 351.304; and (4) submissions that do not comply with any other applicable regulations, as appropriate. If information is not submitted in a complete and timely fashion or is not fully verifiable, Commerce may use facts otherwise available for the basis of its decision, as it determines appropriate, consistent with section 776 of the Act.

D. Consultations

1. Implementation Consultations

a. If the GOA notifies Commerce in writing, or Commerce otherwise determines, that the GOA for any reason has not satisfied the implementation obligations in Section VI of the CVD Agreement, Commerce will consult with the GOA for a period of up to 60 days to ensure that the GOA complies with those obligations within those 60 days.

b. If Commerce is not satisfied at the conclusion of the consultation period that exports of WGJC from Argentina are entering the United States in amounts consistent with the CVD Agreement, or entered with a valid Export License, Commerce may evaluate under section 351.209 of its regulations, or section 751 of the Act, whether the CVD Agreement is being violated, as defined in Section IX of the CVD Agreement.

2. Compliance Consultations

a. When Commerce identifies, through import or compliance monitoring or otherwise, that exports of WGJC from Argentina may have entered the United States in volumes inconsistent with Section V of the CVD Agreement, or without an Export License, Commerce will notify the GOA. Commerce will consult with the GOA for a period of up to 60 days to establish a factual basis regarding exports that may be inconsistent with Section V of the CVD Agreement.

b. During the consultation period, Commerce will examine any information that it develops, or which is submitted, including information requested by Commerce, under any provision of the CVD Agreement.

c. If Commerce is not satisfied at the conclusion of the consultation period that exports of WGJC from Argentina are entering the United States in amounts consistent with the CVD Agreement, or entered with a valid Export License, Commerce may evaluate under section 351.209 of its regulations, or section 751 of the Act whether the CVD Agreement is being violated, as defined in Section IX of the CVD Agreement.

3. Anti-Circumvention Consultations

a. If the GOA or Commerce determines that a company from a Third Country has circumvented the CVD Agreement and Commerce and the GOA agree that no Argentine company participated in or had knowledge of such activities, then Commerce and the GOA shall hold consultations for the purpose of sharing information regarding such circumvention and reaching mutual agreement on the appropriate measures to be taken to eliminate such circumvention. If Commerce and the GOA are unable to reach mutual agreement on the appropriate measures to be taken to eliminate such circumvention within 45 days, then Commerce may take appropriate measures, such as deducting the volume of WGJC involved in such circumvention from the Export Limit for the current Export Limit Period (or, if necessary, a subsequent Annual Export Limit Period). Before taking such measures, Commerce will notify the GOA of the facts and reasons constituting the basis for Commerce's intended action and will afford the GOA 15 days in which to comment. Commerce will enter its determinations regarding circumvention into the record of the CVD Agreement. Alternatively, Commerce may evaluate under section 351.209 of its regulations, or section 751 of the Act, whether the CVD Agreement is being violated, as defined in Section IX of the CVD Agreement.

b. In the event that Commerce determines that an Argentine company has participated in a transaction circumventing the CVD Agreement, Commerce and the GOA shall hold consultations for the purpose of sharing information regarding such circumvention and reaching mutual agreement on an appropriate resolution of the problem. If Commerce and the GOA are unable to reach mutual agreement within 60 days, Commerce may take appropriate measures, such as deducting the volume of WGJC involved in such circumvention from the Export Limit for the current Export Limit Period (or, if necessary, a subsequent Annual Export Limit Period) or instructing CBP to deny entry to any WGJC from Argentina sold by the company found to be circumventing the CVD Agreement. Before taking such measures, Commerce will notify the GOA of the basis for Commerce's intended action and the GOA will comment within 30 days. Commerce will enter its determinations regarding circumvention into the record of the CVD Agreement. Alternatively, Commerce may evaluate under section 351.209 of its regulations, or section 751 of the Act, whether the CVD Agreement is being violated, as defined in Section IX of the CVD Agreement.

4. Operations Consultations

Commerce will consult with the GOA regarding the operation of the CVD Agreement. Commerce or the GOA may request such consultations at any time, including consultations to revise the Export Limit.

IX. Violations of the CVD Agreement

A. If Commerce determines that there has been a Violation of the CVD Agreement or that the CVD Agreement no longer meets the requirements of sections 704(c) or (d) of the Act, Commerce shall take action it determines appropriate under section 704(i) of the Act and section 351.209 of Commerce's regulations.

B. Examples of activities which Commerce may deem to be Violations of the CVD Agreement include:

1. Direct or indirect exports of WGJC from Argentina to the United States in amounts greater than the Export Limit established in the relevant Export Limit Period.

2. A significant amount (i.e., five percent or more of the Export Limit for the relevant Export Limit Period) of WGJC from Argentina exported to the United States without an Export License, or entered into the United States without a valid Export License, that is not reported by the GOA to Commerce.

3. Any other material violation or breach, as determined by Commerce.

X. Disclosure and Comment

This section provides the terms for disclosure and comment following consultations or during segments of the proceeding not involving a review under section 751 of the Act.

A. Commerce may make available to representatives of each Interested Party, pursuant to and consistent with 19 CFR 351.304-351.306, any business proprietary information submitted to and/or collected by Commerce pursuant to the CVD Agreement, as well as the results of Commerce's analysis of that information.

B. The GOA and any other Interested Party shall file all communications and other submissions via Commerce's Antidumping and Countervailing Duty Centralized Electronic Service System (ACCESS), which is available to registered users at https://access.trade.gov and to all parties at the following address: U.S. Department of Commerce, Central Records Unit, Room B8024, 1401 Constitution Ave, NW, Washington, DC 20230.

Such communications and submissions shall be filed consistent with the requirements provided in 19 CFR 351.303.

XI. Duration of the CVD Agreement

A. This CVD Agreement has no scheduled termination date. Termination of the suspended investigation shall be considered in accordance with the five-year review provisions of section 751(c) of the Act and section 351.218 of Commerce's regulations.

B. Commerce or the GOA may withdraw from this CVD Agreement at any time. Termination of the CVD Agreement shall be effective no later than 60 days after the date the written notice of withdrawal is provided to the GOA or Commerce, respectively.

C. Upon termination of the CVD Agreement, Commerce shall follow the procedures outlined in section 704(i)(1) of the Act.

XII. Other Provisions

A. By entering into the CVD Agreement, the GOA does not admit that exports of WGJC from Argentina are having or have had an injurious effect on WGJC producers in the United States or that the GOA has provided countervailable subsidies to WGJC producers and exporters in Argentina. The GOA agrees that it will not provide any new or additional export or import substitution subsidies on WGJC from Argentina.

B. As of the Effective Date, Commerce shall instruct CBP to refund any cash deposits collected as a result of the countervailing duty investigation on WGJC from Argentina. Commerce shall instruct CBP to terminate the suspension of liquidation consistent with section 704(f)(2)(B) of the Act.

For the U.S. Department of Commerce:

Ryan Majerus

Deputy Assistant Secretary

for Policy & Negotiations

Enforcement and Compliance

March 17, 2023

Date

For the Government of Argentina:

Cecilia Todesca Bocco

Secretary for International Economic Relations

Ministry of Foreign Affairs, International Trade and Worship

March 17, 2023

Date

Appendix I—Agreement Suspending the Countervailing Duty Investigation on White Grape Juice Concentrate From Argentina—Export Limit

Product | Export limit in gallons per annual export limit period
WGJC from Argentina | 8.0 million gallons.

The parties agree to the following formulae for the conversions between metric tons and gallons:

→ 1 metric ton (MT) of 65-68 Brix WGJC = 198 gallons

→ 1 gallon of 65-68 Brix WGJC = 0.00505 MT

Appendix II—Agreement Suspending the Countervailing Duty Investigation on White Grape Juice Concentrate From Argentina—Information To Be Contained in Export Licenses

The GOA will issue shipment-specific Export Licenses to exporters of WGJC from Argentina that shall contain the following fields:

1. Export License Number: Indicate the Export License number applicable to the shipment.

2. Name of the Licensee: Indicate the name of the Licensee, and the name of the producer, if different from the Licensee.

3. Name of the Exporter: Indicate the name of the broker/trader or producer, as applicable.

4. Complete Description of Merchandise: Include the applicable United States Harmonized Tariff Schedule category and Brix level, if known.

5. Quantity: Indicate in gallons.

6. Quantity: Indicate in Metric Tons (MT)

7. Date of Export License: Date that the Export License is issued.

8. Date of Expiration of the Export License: Indicate the date that the Export License expires.

9. Contract Identification Information: Indicate the contract identification information with which the license is associated, if known.

10. Importer's Number.

11. Port of Export: Indicate the port of export.

12. Export Limit Period for which the Export License is valid.

13. Allocation to Producer/Exporter: Indicate the total amount of the Export Limit allocated to the individual producer/exporter during the relevant Export Limit Period.

14. Allocation Remaining: Indicate the remaining amount available under the allocation to the individual producer/exporter during the relevant Export Limit Period.

Appendix III—Agreement Suspending the Countervailing Duty Investigation on White Grape Juice Concentrate From Argentina—Information on Exports of WGJC From Argentina

In accordance with the established format, the GOA's license issuing authority shall collect and provide to Commerce all information necessary to ensure compliance with the CVD Agreement. This information will be provided to Commerce on monthly basis. The GOA's license issuing authority will collect and maintain data on exports to the United States on a continuous basis. Data for exports to countries other than the United States will be reported upon request. The GOA's license issuing authority may provide a narrative explanation to substantiate all data collected in accordance with the following formats.

The GOA's license issuing authority will provide a report or summary regarding all Export Licenses issued to entities, which shall contain the following information unless the information is unknown to the licensing authority and the licensee. Upon request, the GOA will provide copies of any Export License to Commerce.

1. Export License Number: Indicate the Export License number for the shipment.

2. Name of the Licensee: Indicate the name of the Licensee, and the name of the producer, if different from the Licensee.

3. Name of the Exporter: Indicate the name of the broker/trader or exporter, as applicable.

4. Complete Description of Merchandise: Include the applicable United States Harmonized Tariff Schedule category and Brix level, if known.

5. Quantity: Indicate in gallons.

6. Quantity: Indicate in Metric Tons (MT)

7. Date of Export License: Date that the Export License is issued.

8. Date of Expiration of the Export License: Indicate the date that the Export License expires.

9. Port of Export: Indicate the port of export.

10. Date of Export: Indicate the date of export of the WGJC from Argentina to the United States.

11. Allocation to producer/exporter: Indicate the total amount of the Export Limit allocated to the individual producer/exporter during the relevant Export Limit Period.

12. Allocation Remaining: Indicate the remaining amount available under the allocation to the individual producer/exporter during the relevant Export Limit Period.

13. Contract Identification Information: Indicate the contract identification information with which the license is associated, if known.

14. Importer's Number.

[FR Doc. 2023-06124 Filed 3-23-23; 8:45 am]

BILLING CODE 3510-DS-P